SMALL BUSINESS ADMINISTRATION

Small Business Size Standards: Waiver of the Nonmanufacturer Rule

AGENCY: U.S. Small Business Administration.

ACTION: Reopen the public comment period.

SUMMARY: The U.S. Small Business Administration is reopening the public comment period for the notice to rescind a class waiver of the Nonmanufacturer Rule for Aerospace Ball and Roller Bearings, North American Industry Classification System (NAICS) code 332991, Products and Services Code (PSC) 3110, made available for public comment on April 4, 2013 (78 FR 20371). The public comment period for the notice to rescind the class waiver for Aerospace Ball and Roller Bearings closed on June 3, 2013. The public comment period will reopen for 14 days from publication in response to a public request for additional review time.

DATES: The public comment period for the notice published on April 4, 2013 (78 FR 20371) will reopen and close 14 days after the date of publication in the Federal Register.

FOR FURTHER INFORMATION CONTACT: You may submit comments, identified by docket number SBA-2013-0004, by any of the following methods:

• Federal eRulemaking Portal: http://www.regulations.gov. Follow the instructions for submitting comments.

• Mail/Hand Delivery/Courier: Edward Halstead, Procurement Analyst, U.S. Small Business Administration, 409 3rd Street SW., 8th floor, Washington, DC 20416.

All comments will be posted on www.Regulations.gov. If you wish to include within your comment confidential business information (CBI) as defined in the Privacy and Use Notice/User Notice at www.Regulations.gov and you do not want that information disclosed, you must submit the comment by either Mail or Hand Delivery. In the submission, you must highlight the information that you consider is CBI and explain why you believe this information should be withheld as confidential. SBA will make a final determination, in its sole discretion, as to whether the information is CBI and therefore will be published or withheld.

FOR FURTHER INFORMATION CONTACT: Edward Halstead, (202) 205-9885, Edward.halstead@sba.gov.

SUPPLEMENTARY INFORMATION: Section 8(a)(17) of the Small Business Act (the Act), 15 U.S.C. 637(a)(17), and SBA's implementing regulations generally require that recipients of Federal supply contracts that are set aside for small businesses, Small Disabled Veteran Owned Small Business Concerns, Women-Owned Small Businesses, or Participants in the SBA's 8(a) Business Development Program provide the product of a domestic small business manufacturer or processor if the recipient is other than the actual manufacturer or processor of the product. This requirement is commonly referred to as the Nonmanufacturer Rule. 13 CFR 121.406(b). The Act authorizes SBA to waive the Nonmanufacturer Rule for any “class of products” for which there are no small business manufacturers or processors available to participate in the Federal market. In order to be considered available to participate in the Federal market for a class of products, a small business manufacturer must have submitted a proposal for a contract or received a contract from the Federal government within the last 24 months. 13 CFR 121.1202(c). SBA defines “class of products” as an individual subdivision within a North American Industry Classification System (NAICS) Industry Number as established by the Office of Management and Budget in the NAICS Manual. 13 CFR 121.1202(d). In addition, SBA uses Product Service Codes (PSCs) to further identify particular products within the NAICS code to which a waiver would apply. SBA may then identify a specific item within a PSC and NAICS code to which a class waiver would apply.

On April 4, 2013, SBA published a notice in the Federal Register announcing that SBA was considering rescinding a class waiver of the Nonmanufacturer Rule for Aerospace Ball and Roller Bearings, NAICS code 332991, PSC 3110, based on information submitted by several small business manufacturers of aerospace ball and roller bearings that have done business with the Federal government within the previous two years. 78 FR 20371. The public comment period for the notice to rescind the class waiver for Aerospace Ball and Roller Bearings closed on June 3, 2013. This notice announces a reopening of the public comment period until 14 days after the date of publication in the Federal Register.

Kenneth W. Dodds,
Director, Office of Government Contracting.

[FR Doc. 2013-13746 Filed 6-10-13; 8:45 am]

BILLING CODE 8025-01-P